DEPARTMENT OF DEFENSE

Office of the Secretary

[Docket ID: DoD-2022-OS-0122]

Submission for OMB Review; Comment Request

AGENCY: Office of the Under Secretary of Defense for Personnel and Readiness (OUDS(P&R)), Department of Defense (DoD).

ACTION: 30-Day information collection notice.

SUMMARY: The DoD has submitted to the Office of Management and Budget (OMB) for clearance the following proposal for collection of information under the provisions of the Paperwork Reduction Act.

DATES: Consideration will be given to all comments received by June 9, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Domestic Abuse Victim Reporting Preference Statement; DD Form 2967; OMB Control Number 0704-DARS.

Type of Request: Existing collection in use without OMB control number.

Number of Respondents: 20,000.

Responses per Respondent: 1.

Annual Responses: 20,000.

Average Burden Per Response: 1.25 hours.

Annual Burden Hours: 25,000.

Needs and Uses: Public Law (Pub. L.) 98-212 established the Family Advocacy Program (FAP) for the purpose of identifying, responding, and treating child abuse/neglect and domestic abuse. Section 543 of Public Law 103-337, National Defense Authorization Act (NDAA) for Fiscal Year (FY) 1995, establishes the requirement for domestic abuse victim advocates (DAVAs) in the Armed Forces that are responsible for (1) working with victims of domestic abuse to provide: (a) information on available benefits and services, (b) assistance in obtaining those benefits and services, and (c) other appropriate assistance. (2) Services offered in the case of an individual who is a victim of family violence (including intrafamilial sexual, physical, and emotional abuse) shall be provided principally through the FAPs of the military departments. Section 574 of Public Law 114-328, NDAA for FY 2017, requires that the Armed Forces report to Congress critical information on the circumstances of incidents of child abuse/neglect and domestic abuse to further inform ongoing prevention and response efforts. The FAP Central Registry data submitted from each Military Service (Army, Navy, Marine Corps, and Air Force) is aggregated to report a DoD-wide description of the child abuse/neglect and domestic abuse incidents reported to FAP annually, by fiscal year. Section 543 of Public Law 114-328 further directed the Secretary of Defense to include information on each claim of retaliation in connection with a report of sexual assault (to include domestic abuse incidents) in the Armed Forces made by or against a member of such Armed Forces. This includes the narrative description and nature of each complaint, information on the complainant and alleged retaliator, and summary and determination of the investigation. Section 536 of Public Law 116-92, NDAA for FY 2020, directs the Secretary to prescribe procedures under which a victim who files a restricted report on an incident of sexual assault (to include domestic abuse incidents) may request, at any time, the return of any personal property of the victim obtained as part of the sexual assault forensic examination. Section 543 of Public Law 113-291, DoDI 5505.18, “Investigation of Adult Sexual in the Department of Defense,” and Under Secretary of Defense for Personnel and Readiness memorandum, Section 536 of Public Law 115-232, NDAA for FY 2019, “Procedures to Implement the “Catch a Serial Offender Program,” establishes the requirement for the option of expedited transfer to be made available to victims of domestic abuse. DoD Instruction (DoDI) 6400.06, “DoD Coordinated Community Response to Domestic Abuse Involving DoD Military and Certain Affiliated Personnel,” sets forth the policies for the implementation and execution of the FAP to include programs consistent with the procedures outlined in Section 3 of the DoDI; and ensuring the implementation, monitoring, and evaluation of the program at all levels of military command.

Affected Public: Individuals or households.

Frequency: As required.

Respondent's Obligation: Required to obtain or retain benefits.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: May 5, 2023.
Aaron T. Siegel,
Alternate OSD Federal Register Liaison Officer, Department of Defense.

[FR Doc. 2023-09923 Filed 5-9-23; 8:45 am]

BILLING CODE 5001-06-P